DEPARTMENT OF HEALTH AND HUMAN SERVICES

National Institutes of Health

Center for Scientific Review; Amended Notice of Meeting

Notice is hereby given of a change in the meeting of the Center for Scientific Review Special Emphasis Panel, Small Business: Cancer Drug Development and Therapeutics, March 23, 2020 08:00 a.m. to March 24, 2020, 06:00 p.m. Canopy by Hilton, 940 Rose Avenue, North Bethesda, MD 20852, which was published in the Federal Register on February 25, 2020, 85 FR 11376.

The meeting location is being held at the National Institutes of Health, 6701 Rockledge Drive, Bethesda, MD 20892. The meeting date and time remain the same. The meeting is closed to the public.

Dated: March 11, 2020.
Ronald J. Livingston, Jr.,
Program Analyst, Office of Federal Advisory Committee Policy.

[FR Doc. 2020-05424 Filed 3-16-20; 8:45 am]

BILLING CODE 4140-01-P